FEDERAL DEPOSIT INSURANCE CORPORATION

Sunshine Act Meeting

Pursuant to the provisions of the “Government in the Sunshine Act” (5 U.S.C. 552b), notice is hereby given that the Federal Deposit Insurance Corporation's Board of Directors met in open session at 10:02 a.m. on Wednesday, September 27, 2017, to consider the following matters:

Summary Agenda:

Disposition of minutes of previous Board of Directors' Meetings.

Memorandum and resolution re: Final Rule Establishing Restrictions on Qualified Financial Contracts of Certain FDIC supervised Institutions; Revisions to the Definition of Qualifying Master Netting Agreement and Related Definitions.

Memorandum and resolution re: Designated Reserve Ratio for 2018.

Summary reports, status reports, reports of actions taken pursuant to authority delegated by the Board of Directors, and reports of the Office of Inspector General.

Discussion Agenda:

Update of Projected Deposit Insurance Fund Losses, Income, and Reserve Ratios for the Restoration Plan.

Memorandum and resolution re: Regulatory Capital Rule: Simplification to the Capital Rule Pursuant to the Economic Growth and Regulatory Paperwork Reduction Act of 1996.

In calling the meeting, the Board determined, on motion of Vice Chairman Thomas M. Hoenig, seconded by Director Richard Cordray (Director, Consumer Financial Protection Bureau), concurred in by Director Keith A. Noreika (Acting Comptroller of the Currency), and Chairman Martin J. Gruenberg, that Corporation business required its consideration of the matters on less than seven days' notice to the public; and that no earlier notice of the meeting than that previously provided on September 25, 2017, was practicable.

The meeting was held in the Board Room located on the sixth floor of the FDIC Building located at 550 17th Street NW., Washington, DC.

Dated: September 27, 2017.
Federal Deposit Insurance Corporation.
Robert E. Feldman,
Executive Secretary.

[FR Doc. 2017-21062 Filed 9-27-17; 4:15 pm]

BILLING CODE P